DEPARTMENT OF AGRICULTURE

Food Safety and Inspection Service

[Docket No. FSIS-2014-0046]

Codex Alimentarius Commission: Meeting of the Codex Committee on Contaminants in Food

AGENCY: Office of the Under Secretary for Food Safety, USDA.

ACTION: Notice of public meeting and request for comments.

SUMMARY: The Office of the Under Secretary for Food Safety, U.S. Department of Agriculture (USDA), Food and Drug Administration (FDA), and U.S. Department of Health and Human Services, are sponsoring a public meeting on February 23, 2015. The objective of the public meeting is to provide information and receive public comments on agenda items and draft United States (U.S.) positions that will be discussed at the 9th Session of the Codex Committee on Contaminants in Food (CCCF) of the Codex Alimentarius Commission (Codex), taking place in New Delhi, India, March 16-20, 2015. The Deputy Under Secretary for Food Safety and FDA recognize the importance of providing interested parties the opportunity to obtain background information on the 9th Session of the CCCF and to address items on the agenda.

DATES: The public meeting is scheduled for Monday, February 23, 2015, from 1:00-4:00 p.m.

ADDRESSES: The public meeting will take place at the Harvey W. Wiley Federal Building, United States Food and Drug Administration, Center for Food Safety and Applied Nutrition (CFSAN), 5100 Paint Branch Parkway, Room TBA, College Park, MD 20740.

Documents related to the 9th Session of the CCCF will be accessible via the World Wide Web at the following address: http://www.codexalimentarius.org/meetings-reports/en/.

Nega Beru, U.S. Delegate to the 9th Session of the CCCF invites interested U.S. parties to submit their comments electronically to the following email address henry.kim@fda.hhs.gov.

Registration

Attendees may register electronically at the same email address provided above by February 19, 2015. The meeting will be held in a Federal building; therefore, early registration is encouraged as it will expedite entry into the building and its parking area. You should also bring photo identification and plan for adequate time to pass through security screening systems. If you require parking, please include the vehicle make and tag number when you register. Attendees that are not able to attend the meeting in-person but wish to participate may do so by phone.

Call In Number

If you wish to participate in the public meeting for the 9th Session of CCCF by conference call, please use the call-in number.

Call-In Number: 1-888-844-9904.

The participant code will be posted on the Web page below: http://www.fsis.usda.gov/wps/portal/fsis/topics/international-affairs/us-codex-alimentarius/public-meetings.

Further Information About the 9th Session of the CCCF Contact: Henry Kim, Ph.D., Office of Food Safety, CFSAN/FDA, HFS-317, 5100 Paint Branch Parkway, College Park, MD 20740, Telephone: (240) 402-2023, Fax: (301) 436-2651, email: henry.kim@fda.hhs.gov.

For Further Information About the Public Meeting Contact: Henry Kim, Ph.D., Office of Food Safety, CFSAN/FDA, HFS-317, 5100 Paint Branch Parkway, College Park, MD 20740, Telephone: (301) 436-2023, Fax: (301) 436-2651, email: henry.kim@fda.hhs.gov.

SUPPLEMENTARY INFORMATION:

Background

Codex was established in 1963 by two United Nations organizations, the Food and Agriculture Organization (FAO) and the World Health Organization (WHO). Through adoption of food standards, codes of practice, and other guidelines developed by its committees, and by promoting adoption and implementation by governments, Codex seeks to protect the health of consumers and ensure that fair practices are used in the food trade.

The CCCF is responsible for:

(a) Establishing or endorsing permitted maximum levels, and where necessary revising existing guideline levels for contaminants and naturally occurring toxicants in food and feed;

(b) Preparing priority lists of contaminants and naturally occurring toxicants for risk assessment by the Joint FAO/WHO Expert Committee on Food Additives (JECFA);

(c) Considering and elaborating methods of analysis and sampling for the determination of contaminants and naturally occurring toxicants in food and feed;

(d) Considering and elaborating standards or codes of practice for related subjects;

(e) Considering other matters assigned to it by the Commission in relation to contaminants and naturally occurring toxicants in food and feed.

The Committee is chaired by The Netherlands.

Issues to be Discussed at the Public Meeting

The following items on the Agenda for the 9th Session of the CCCF will be discussed during the public meeting:

• Matters Referred to the CCCF by the Codex Alimentarius Commission or its subsidiary bodies

• Proposed draft maximum levels for deoxynivalenol (DON) in raw cereal grains (wheat, maize and barley) including sampling plans and in flour, meal, semolina and flakes derived from wheat, maize or barley

• Maximum levels for lead in fruit juices and nectars (ready to drink), canned fruits, and canned vegetables

• Maximum levels for lead in selected fruits and vegetables

• Proposed draft maximum levels for inorganic arsenic in husked rice

• Proposed draft Code of Practice for the Prevention and Reduction of Arsenic Contamination in Rice

• Proposed draft revision of the Code of Practice for the Prevention and Reduction of Mycotoxin Contamination in Cereals

• Proposed draft maximum level for total aflatoxins in ready-to-eat peanuts

• Proposed draft maximum levels for cadmium in chocolate and Cocoa-derived products

• Proposed draft maximum levels for DON and its acetylated derivatives in cereals and cereal based products

• Paper on submission and use of data from GEMS/Food

• Discussion paper on radionuclides

• Discussion paper on approaches for phasing in of lower MLs

• Discussion paper on maximum levels for methylmecury in fish

• Discussion paper on mycotoxin contamination in spices

• Discussion paper on feasibility to develop a Code of Practice for mycotoxins in spices

• Priority list of contaminants and naturally occurring toxicants proposed for evaluation by JECFA.

Each issue listed will be fully described in documents distributed, or to be distributed, by the Secretariat before the meeting. Members of the public may access or request copies of these documents (see ADDRESSES).

Public Meeting

At the February 23, 2015, public meeting, draft U.S. positions on the agenda items will be described, discussed, and attendees will have the opportunity to pose questions and offer comments. Written comments may be offered at the meeting or sent to Dr. Henry Kim for the 9th Session of the CCCF (see ADDRESSES). Written comments should state that they relate to activities of the 9th Session of the CCCF.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail

U.S. Department of Agriculture, Director, Office of Adjudication, 1400 Independence Avenue SW., Washington, DC 20250-9410.

Fax

(202) 690-7442.

Email

program.intake@usda.gov.

Persons with disabilities who require alternative means for communication (Braille, large print, audiotape, etc.), should contact USDA's TARGET Center at (202) 720-2600 (voice and TDD).

Done at Washington, DC, on January 9, 2015.
Paulo Almeida,
Acting, U.S. Manager for Codex Alimentarius.

[FR Doc. 2015-00433 Filed 1-13-15; 8:45 am]

BILLING CODE 3410-DM-P